EQUAL EMPLOYMENT OPPORTUNITY COMMISSION

Meeting, Sunshine Act

Correction

In notice document 05-7537 appearing on page 19452 in the issue of Wednesday, April 13, 2005, make the following correction:

In the first column, under the DATE AND TIME heading, “Thursday, April 21, 2005, a.m. eastern time” should read “Thursday, April 21, 2005, 9 a.m., eastern time.”

[FR Doc. C5-7537 Filed 4-15-05; 8:45 am]

BILLING CODE 1505-01-D